FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 002233NF.

Name: Pronto Cargo Corporation.

Address: 1530 NW 98th Court, Unit 103, Doral, FL 33172-2757.

Date Revoked: October 8, 2009.

Reason: Surrendered license voluntarily.

License Number: 021205NF.

Name: Selim Logistics System USA, Inc. dba Uni Global Logistics.

Address: 6492 New Albany Rd., Lisle, IL 60535.

Date Revoked: October 7, 2009.

Reason: Surrendered license voluntarily.

Sandra L. Kusumoto,
Director, Bureau of Certification and Licensing.

[FR Doc. E9-27190 Filed 11-10-09; 8:45 am]

BILLING CODE 6730-01-P